DEPARTMENT OF HEALTH AND HUMAN SERVICES

Health Resources and Services Administration

National Advisory Council on the National Health Service Corps; Meeting Cancellation

AGENCY: Health Resources and Services Administration, Department of Health and Human Services.

ACTION: Notice of meeting cancellation.

SUMMARY: This is to notify the public that the June 24-25, 2025, meeting of the National Advisory Council on the National Health Service Corps is cancelled.

FOR FURTHER INFORMATION CONTACT: Diane Fabiyi-King, Designated Federal Officer, Division of National Health Service Corps, 5600 Fishers Lane, Rockville, Maryland 20857, telephone: (301) 443-3609 or email: NHSCAdvisoryCouncil@hrsa.gov.

SUPPLEMENTARY INFORMATION: This meeting was announced in the Federal Register on Wednesday, January 15, 2025 at 90 FR 3882 (FR Doc. 2024-30715).

Updates to future meetings will be announced through the Federal Register.

Maria G. Button,
Director, Executive Secretariat.

[FR Doc. 2025-10081 Filed 6-2-25; 8:45 am]

BILLING CODE 4165-15-P